FEDERAL COMMUNICATIONS COMMISSION

Sunshine Act Meeting; Open Commission Meeting; Thursday, July 19, 2012

July 12, 2012.

The Federal Communications Commission will hold an Open Meeting on Thursday, July 19, 2012. The meeting is scheduled to commence at 10:30 a.m. in Room TW-C305, at 445 12th Street SW., Washington, DC.

The meeting will feature presentations on:

FCC Next-Generation Mapping

• The latest advancements in mapping at the Commission, including the launch of fcc.gov/maps, and novel use of maps and the latest open source mapping technology to increase transparency across the agency and promote data-driven decision-making to benefit consumers, industry, and developers.

White Spaces for Wireless Broadband

• A progress report by the Wireless Telecommunications Bureau and Office of Engineering & Technology on the development and use of white space technology to unleash more spectrum for wireless broadband.

Measuring Broadband America Report 2012

• The Measuring Broadband America July 2012 Report, which extends the study into more regions and publishes more kinds of data. This latest study of broadband performance in the U.S. follows the Commission's first-of-its-kind report last year to test and report transparent broadband speed and performance data in collaboration with Internet Service Providers.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2012-17400 Filed 7-12-12; 4:15 pm]

BILLING CODE 6712-01-P